DEPARTMENT OF HEALTH AND HUMAN SERVICES

National Institutes of Health

National Cancer Institute; Amended Notice of Meeting

Notice is hereby given of a change in the meeting of the National Cancer Advisory Board, June 21, 2010, 6:30 p.m. to June 23, 2010, 12 p.m., National Institutes of Health, Building 31, 31 Center Drive, Bethesda, MD 20892 which was published in the Federal Register on May 11, 2010, FR 26267-26268.

This Federal Register Notice is being amended to change the date, times, and location of the meeting of the Ad Hoc Subcommittee on Experimental Therapeutics to June 22, 2010 from 12 p.m. to 1 p.m. at the National Institutes of Health, Building 31, 31 Center Drive, Conference Room 7, Bethesda, MD 20892 and to add the meeting of the Subcommittee on Clinical Investigations to June 21, 2010 from 6 p.m. to 7:30 p.m. at Embassy Suites, Chevy Chase Pavilion, 4300 Military Road, NW., Washington, DC 20015.

Dated: May 28, 2010.
Jennifer Spaeth,
Director, Office of Federal Advisory Committee Policy.

[FR Doc. 2010-13451 Filed 6-3-10; 8:45 am]

BILLING CODE 4140-01-P